DEPARTMENT OF ENERGY

Federal Energy Regulatory Commission

Combined Notice of Filings #1

Take notice that the Commission received the following electric corporate filings:

Docket Numbers: EC25-3-000.

Applicants: Apple Energy LLC.

Description: Response to 12/13/2024 Deficiency Letter of Apple Energy LLC.

Filed Date: 1/13/25.

Accession Number: 20250113-5220.

Comment Date: 5 p.m. ET 2/3/25.

Docket Numbers: EC25-40-000.

Applicants: Pattern Energy Group LP.

Description: Application for Authorization Under Section 203 of the Federal Power Act of Pattern Energy Group LP.

Filed Date: 1/13/25.

Accession Number: 20250113-5218.

Comment Date: 5 p.m. ET 2/3/25.

Take notice that the Commission received the following electric rate filings:

Docket Numbers: ER24-3089-002.

Applicants: PJM Interconnection, L.L.C.

Description: Tariff Amendment: Amendment of WMPA SA No. 7373; Project Identifier No. AG1-558 to be effective 12/31/9998.

Filed Date: 1/14/25.

Accession Number: 20250114-5137.

Comment Date: 5 p.m. ET 2/4/25.

Docket Numbers: ER24-3091-002.

Applicants: PJM Interconnection, L.L.C.

Description: Tariff Amendment: Amendment to Original WMPA No. 7371; AG1-559 to be effective 12/31/9998.

Filed Date: 1/14/25.

Accession Number: 20250114-5119.

Comment Date: 5 p.m. ET 2/4/25.

Docket Numbers: ER25-919-000.

Applicants: PJM Interconnection, L.L.C.

Description: Tariff Amendment: Notice of Cancellation of ISA, SA No. 6447; AE2-046 re: withdrawal to be effective 3/15/2025.

Filed Date: 1/13/25.

Accession Number: 20250113-5205.

Comment Date: 5 p.m. ET 2/3/25.

Docket Numbers: ER25-920-000.

Applicants: PJM Interconnection, L.L.C.

Description: § 205(d) Rate Filing: Amendment to GIA SA No. 7346; Project Identifier No. AE2-339 to be effective 3/15/2025.

Filed Date: 1/13/25.

Accession Number: 20250113-5213.

Comment Date: 5 p.m. ET 2/3/25.

Docket Numbers: ER25-921-000.

Applicants: Southwest Power Pool, Inc.

Description: § 205(d) Rate Filing: 1977R21 Nemaha-Marshall Electric Cooperative NITSA and NOA to be effective 1/1/2025.

Filed Date: 1/14/25.

Accession Number: 20250114-5027.

Comment Date: 5 p.m. ET 2/4/25.

Docket Numbers: ER25-922-000.

Applicants: PJM Interconnection, L.L.C.

Description: § 205(d) Rate Filing: Original GIA, SA No. 7471; Project Identifier No. AG1-259/AG1-260 to be effective 1/2/2025.

Filed Date: 1/14/25.

Accession Number: 20250114-5052.

Comment Date: 5 p.m. ET 2/4/25.

Docket Numbers: ER25-923-000.

Applicants: Midcontinent Independent System Operator, Inc.

Description: § 205(d) Rate Filing: 2025-01-14_SA 3480 ATC-WEPCo 2nd Rev GIA (J850) to be effective 1/6/2025.

Filed Date: 1/14/25.

Accession Number: 20250114-5082.

Comment Date: 5 p.m. ET 2/4/25.

Docket Numbers: ER25-924-000.

Applicants: Santa Paula Energy Storage, LLC.

Description: § 205(d) Rate Filing: Santa Paula Amended Co-Tenancy and SFA to be effective 1/15/2025.

Filed Date: 1/14/25.

Accession Number: 20250114-5086.

Comment Date: 5 p.m. ET 2/4/25.

Docket Numbers: ER25-925-000.

Applicants: California Independent System Operator Corporation.

Description: § 205(d) Rate Filing: 2025-01-14 Certificate of Concurrence—CAISO, PG&E & Metcalf to be effective 11/29/2024.

Filed Date: 1/14/25.

Accession Number: 20250114-5102.

Comment Date: 5 p.m. ET 2/4/25.

Take notice that the Commission received the following public utility holding company filings:

Docket Numbers: PH25-4-000.

Applicants: ECP ControlCo, LLC.

Description: ECP ControlCo, LLC submits FERC 65-B Notice of Change in Fact to Waiver Notification.

Filed Date: 1/13/25.

Accession Number: 20250113-5223.

Comment Date: 5 p.m. ET 2/3/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 14, 2025.
Carlos D. Clay,
Acting Deputy Secretary.

[FR Doc. 2025-01331 Filed 1-17-25; 8:45 am]

BILLING CODE 6717-01-P